NUCLEAR REGULATORY COMMISSION

[NRC-2010-0265]

Draft Regulatory Guide: Issuance, Availability

AGENCY: Nuclear Regulatory Commission.

ACTION: Notice of Issuance and Availability of Draft Regulatory Guide, DG-3030, “Nuclear Criticality Safety Standards for Fuels and Material Facilities.”

FOR FURTHER INFORMATION CONTACT: Tamara D. Powell, U.S. Nuclear Regulatory Commission, Washington, DC 20555-0001, telephone: (301) 492-3211 or e-mail Tamara.Powell@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Nuclear Criticality Safety Standards for Fuels and Material Facilities,” is temporarily identified by its task number, DG-3030, which should be referenced in all related correspondence. DG-3030 is proposed Revision 2 of Regulatory Guide 3.71, dated October 2005.

Draft regulatory guide DG-3030 provides applicants, licensees and certificate holders with updated guidance concerning criticality safety standards that the U.S. Nuclear Regulatory Commission (NRC) has endorsed for use with nuclear fuels and material facilities. As such, DG-3030 describes methods that the NRC staff considers acceptable for complying with the NRC's regulations in Title 10, of the Code of Federal Regulations, parts 70, “Domestic Licensing of Special Nuclear Material,” and 76, “Certification of Gaseous Diffusion Plants” (10 CFR parts 70 and 76).

Pursuant to 10 CFR 70.20, a specific license is required to acquire, deliver, receive, possess, use, transfer, import, or export special nuclear material, and applications for such licenses must, pursuant to 10 CFR 70.22(a)(8), include proposed procedures to avoid nuclear criticality accidents. Similarly, 10 CFR part 76 certificate holders are required by 10 CFR 76.87(c) to include in their technical safety requirements procedures and/or equipment that address criticality prevention.

The NRC staff has developed DG-3030 to provide guidance on complying with these portions of the NRC's regulations. DG-3030 describes procedures for preventing nuclear criticality accidents in operations that involve handling, processing, storing, and/or transporting special nuclear material at fuel and material facilities. DG-3030 endorses specific nuclear criticality safety standards developed by the American Nuclear Society's Standards Subcommittee 8 (ANS-8), “Operations with Fissionable Materials Outside Reactors.” DG-3030 is not intended for use by nuclear reactor licensees.

II. Further Information

The NRC staff is soliciting comments on DG-3030. Comments may be accompanied by relevant information or supporting data and should mention DG-3030 in the subject line. Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rules, Announcements, and Directives Branch, Mail Stop: TWB-05-B01M, Office of Administration, U.S. Nuclear Regulatory Commission, Washington, DC 20555-0001.

2. Federal e-Rulemaking Portal: Go to http://www.regulations.gov and search for documents filed under Docket ID [NRC-2010-0265]. Address questions about NRC dockets to Carol Gallagher, 301-492-3668; e-mail Carol.Gallagher@nrc.gov.

3. Fax comments to: Rules, Announcements, and Directives Branch, Office of Administration, U.S. Nuclear Regulatory Commission at (301) 492-3446.

Comments would be most helpful if received by September 29, 2010. Comments received after that date will be considered if it is practical to do so, but the NRC is able to ensure consideration only for comments received on or before this date. Although a time limit is given, comments and suggestions in connection with items for inclusion in guides currently being developed or improvements in all published guides are encouraged at any time.

Requests for technical information about DG-3030 may be directed to the NRC contact, Tamara D. Powell at (301) 492-3211 or e-mail Tamara.Powell@nrc.gov.

Electronic copies of DG-3030 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML100950065. The regulatory analysis may be found in ADAMS under Accession No. ML101440446.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 22nd day of July 2010.
For the Nuclear Regulatory Commission.
Harriet Karagiannis,
Acting Chief, Regulatory Guide Development Branch, Division of Engineering, Office of Nuclear Regulatory Research.

[FR Doc. 2010-18883 Filed 7-30-10; 8:45 am]

BILLING CODE 7590-01-P